DEPARTMENT OF AGRICULTURE

Submission for OMB Review; Comment Request

January 23, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), oira_submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Swine Health Protection.

OMB Control Number: 0579-0065.

Summary of Collection: Title 7, U.S.C. 8301, The Animal Health Protection Act, authorizes the Secretary to prevent, control and eliminate domestic diseases, as well as, to take actions to prevent and manage exotic diseases such as hog cholera, foot-and-mouth disease, and other foreign diseases. Veterinary Services, a program with the Animal and Plant Health Inspection Service (APHIS), is responsible for administering regulations intended to prevent the dissemination of animal diseases within the United States. Garbage is one of the primary media through which numerous infections or communicable diseases of swine are transmitted. Because of the serious threat to the U.S. swine industry, Congress passed Public Law 96-468 “Swine Health Protection Act” on October 17, 1980. This law requires USDA to ensure that all garbage is treated prior to its being fed to swine that are intended for interstate or foreign commerce or that substantially affect such commerce. The Act and the regulations will allow only operators of garbage treatment facilities, which meet certain specification to utilize garbage for swine feeding. APHIS will use various forms to collect information.

Need and Use of the Information: APHIS collects information from persons desiring to obtain a permit (license) to operate a facility to treat garbage. Prior to issuance of a license, an inspection will be made of the facility by an authorized representative to determine if it meets all requirements of the regulations. Periodic inspections will be made to determine if licenses are meeting the standards for operation of their approved facilities. Upon receipt of the information from the Public Health Officials, the information is used by Federal or State animal health personnel to determine whether the waste collector is feeding garbage to swine, whether it is being treated, and whether the feeder is licensed or needs to be licensed.

Description of Respondents: Business or other for profit.

Number of Respondents: 2,804.

Frequency of Responses: Recordkeeping; Reporting: On occasion.

Total Burden Hours: 10,538.

Animal and Plant Health Inspection Service

Title: CWD in Cervids; Payment of Indemnity.

OMB Control Number: 0579-0189.

Summary of Collection: Title 7, U.S.C. 8301, Animal Health Protection Act, authorizes the Secretary of Agriculture to promulgate regulations and take measures to prevent the introduction into the United States and the interstate dissemination with the United States of communicable diseases of livestock and poultry, and to pay claims growing out of the destruction of animals. Disease prevention is the most effective method for maintaining a healthy animal population and enhancing the Animal and Plant Health Inspection Service (APHIS) ability to complete in exporting animals and animal products. Chronic wasting disease (CWD) is a transmissible spongiform encephalopathy (TSE) of elk, deer and moose typified by chronic weight loss leading to death. The presence of CWD disease in cervids causes significant economic and market losses to U.S. producers. APHIS will collect information using VS Form 1-23, Appraisal & Indemnity Claim form.

Need and Use of the Information: APHIS will collect the owner's name and address, the number of animals for which the owner is seeking payment, and the appraised value of each animal. The owner must also certify as to whether the animals are subject to a mortgage. If there is a mortgage the form must be signed by the owner and each person holding a mortgage. Failure to collect this information would make it impossible for APHIS to effectively sustain their program to accelerate the eradication of CWD from the United States.

Description of Respondents: Business Or Other For-Profit.

Number of Respondents: 10.

Frequency of Responses: Reporting: On Occasion.

Total Burden Hours: 10.

Ruth Brown,
Departmental Information Collection Clearance Officer.

[FR Doc. E8-1470 Filed 1-28-08; 8:45 am]

BILLING CODE 3410-34-P